DEPARTMENT OF THE INTERIOR

Bureau of Land Management

[AK-963-1430-ET; F-22389]

Public Land Order No. 7699; Extension of Public Land Order No. 6677, Alaska

AGENCY: Bureau of Land Management, Interior.

ACTION: Public Land Order.

SUMMARY: This order extends the withdrawal created by Public Land Order No. 6677, for an additional 20-year period. This extension is necessary to continue protection of the United States Air Force Beaver Creek Radio Relay Site in Alaska which would otherwise expire on May 22, 2008.

DATES: Effective Date: May 23, 2008.

FOR FURTHER INFORMATION CONTACT: Renee Fencl, Bureau of Land Management, Alaska State Office, 222 West Seventh Avenue, #13, Anchorage, Alaska 99513-7504; 907-271-5067.

SUPPLEMENTARY INFORMATION: The withdrawal extended by this order will expire May 22, 2028, unless, as a result of a review conducted prior to the expiration date pursuant to Section 204(f) of the Federal Land Policy and Management Act of 1976, 43 U.S.C. 1714(f) (2000), the Secretary determines that the withdrawal shall be further extended.

Order

By virtue of the authority vested in the Secretary of the Interior by Section 204 of the Federal Land Policy and Management Act of 1976, 43 U.S.C. 1714 (2000), it is ordered as follows:

Public Land Order No. 6677, (53 FR 18283 (1988)), which withdrew 2.5 acres of public land from settlement, sale, location, or entry under the general land laws including the United States mining laws (30 U.S.C. Ch. 2) and from leasing under the mineral leasing laws, to protect the United States Air Force Beaver Creek Radio Relay Site, is hereby extended for an additional 20-year period until May 22, 2028.

Dated: March 27, 2008.
C. Stephen Allred,
Assistant Secretary—Land and Minerals Management.

[FR Doc. E8-8019 Filed 4-14-08; 8:45 am]

BILLING CODE 4310-JA-P